DEPARTMENT OF ENERGY

Federal Energy Regulatory Commission

[Docket No. CP03-74-000]

Dominion Cove Point LNG, LP; Notice of Availability of the Environmental Assessment for the Proposed Cove Point East Project

September 23, 2003.

The staff of the Federal Energy Regulatory Commission (FERC or Commission) has prepared an environmental assessment (EA) on the natural gas pipeline facilities proposed by Dominion Cove Point LNG, LP (DCP) in the above-referenced docket.

The EA was prepared to satisfy the requirements of the National Environmental Policy Act. The staff concludes that approval of the proposed project, with appropriate mitigating measures, would not constitute a major Federal action significantly affecting the quality of the human environment.

The EA assesses the potential environmental effects of the construction and operation of the following proposed compressor facilities that comprise the Cove Point East Project:

Compressor Facilities

• Loudoun Compressor Station—install one 2,370 and two 4,735 horsepower (hp) reciprocating engine-driven compressors at a new compressor station in Loudoun County, Virginia.

• Pleasant Valley Compressor Station—install one 4,750 and one 2,750 hp electric motor-driven compressors and two transformers at a new compressor station in Fairfax County, Virginia.

The purpose of the Cove Point East Project is to fulfill requests for service by Washington Gas Light and Virginia Power Service Energy Corporation, Inc. DCP's Cove Point East Project would create an additional 445 million standard cubic feet per day (MMscfd) of natural gas capacity on its system in order to fulfill requests for service by Washington Gas Light (350 MMscfd) and Virginia Power Service Energy Corporation, Inc (95 MMscfd).

The EA has been placed in the public files of the FERC and is available for public inspection at: Federal Energy Regulatory Commission, Public Reference, 888 First Street, NE., Room 2A, Washington, DC 20426, (202) 502-8371.

Copies of the EA have been mailed to Federal, State and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First Street, NE., Room 1A, Washington, DC 20426;

• Label one copy of the comments for the attention of the Gas Branch 1, PJ11.1;

• Reference Docket No. CP03-74-000;

• Mail your comments so that they will be received in Washington, DC on or before October 22, 2003.

Please note we are continuing to experience delays in mail from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments, you will need to create a free account which can be created by clicking on “Login to File” and then “New User Account.”

Comments will be considered by the Commission but will not serve to make the commentor a party to the preceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, enter the docket number excluding the last three digits in the Docket Number field. Be sure you have selected an appropriate date range. For assistance with eLibrary, call toll-free (1-866) 208-3676, TTY (202) 502-8659 or at FERCOnlineSupport@ferc.gov. The eLibrary link on the FERC Internet Web site also provides access to the texts of formal documents issued by the commission, such as orders, notices, or rulemakings.

In addition, the Commission now offers a free service called eSubscription which allows you to keep track of all formal issuances and submittals in specific dockets. This can reduce the amount of time you spend researching proceedings by automatically providing you with notification of these filings, document summaries, and direct links to the documents. Go to http://www.ferc.gov/esubcribenow.htm.

Magalie R. Salas,
Secretary.

[FR Doc. 03-24640 Filed 9-26-03; 8:45 am]

BILLING CODE 6717-01-P